DEPARTMENT OF HOUSING AND URBAN DEVELOPMENT

[Docket No. FR-7080-N-19]

30-Day Notice of Proposed Information Collection: Form 50900: Elements for the Annual Moving to Work Plan and Annual Moving to Work Report, OMB Control No.: 2577-0216

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: April 29, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410; email PaperworkReductionActOffice@hud.gov.

FOR FURTHER INFORMATION CONTACT: Colette Pollard, Reports Management Officer, REE, Department of Housing and Urban Development, 7th Street SW, Room 8210, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on December 14, 2023 at 87 FR 17099.

A. Overview of Information Collection

Title of Information Collection: Elements for the Annual MTW Plan and Annual MTW Report.

OMB Approval Number: 2577-0216.

Type of Request: Revision of a currently approved collection.

Form Number: 50900.

Description of the need for the information and proposed use: All public housing authorities (PHA) are required to submit a five (5) year plan and annual plans as stated in Section 5A of the 1937 Act, as amended. Moving to Work (MTW) PHAs that are subject to the Standard MTW Agreement submit an Annual MTW Plan and Annual MTW Report (also known as the HUD Form 50900) in lieu of the standard annual and 5 year PHA plans.

The Standard MTW Agreement was developed in 2007 and was transmitted to the existing MTW agencies in January 2008. As additional MTW PHAs were selected they too were provided with the Standard MTW Agreement. 39 MTW PHAs (known as the “Initial” MTW PHAs) currently operate under this agreement. In 2016, HUD extended the term of the Standard Agreement to the end of each agency's 2028 Fiscal Year (FY).

The HUD Form 50900 is a required element as part of the Standard MTW Agreement and contains important information regarding the MTW PHA's upcoming FY activities and a retrospective look back at the MTW PHA's preceding FY. HUD collects the information in this form in order to evaluate the impacts of MTW activities, accurately and timely respond to congressional and other inquiries regarding outcome measures, and identify promising practices learned through the MTW demonstration.

Revisions are being made to the HUD Form 50900 to reduce the reporting and administrative burden on MTW PHAs. All standard metrics within the HUD Form 50900 that were previously required for MTW activities will be eliminated, though they will remain optional for MTW PHAs to report. In addition to eliminating previously required standard metrics, MTW PHAs will now have the option to share an annual narrative, self-reported PHA data, and participant success stories. In lieu of the agency-reported standard metrics, HUD will pull data already reported by the agencies through required HUD systems. This will reduce burden on the agencies.

Updates have been made to specify if MTW PHAs are seeking to apply MTW Activities to any of its Special Purpose Voucher (SPV) types. This will reduce burden on MTW PHAs, by streamlining and replacing the current SPV MTW waiver separate approval process for Emergency Housing Vouchers (EHVs), HUD-Veterans Affairs Supportive Housing (HUD-VASH) vouchers and Stability Vouchers (SVs). Also, SPVs are included in an MTW PHA's planned leasing forecast for the upcoming Fiscal Year in order to provide a more comprehensive estimate of planned households served within the MTW PHA's portfolio. Based on public comments received, other changes include aligning planned new public housing bedroom size categories with HUD systems, and an optional narrative to report on unique households served through local, non-traditional rental services programs such as short-term rental assistance, rapid rehousing, emergency housing, etc., and a description section to indicate whether waiting list are site-based or agency-wide for public housing.

Through the Annual MTW Plan and Report, each MTW PHA will continue to inform HUD, its residents and the public of the PHA's mission for serving the needs of low-income and very low-income families, and the PHA's strategy for addressing those needs. The Annual MTW Plan, like the Annual PHA Plan, provides an easily identifiable source by which residents, participants in tenant-based programs, and other members of the public may locate policies, rules, and requirements concerning the PHA's operations, programs, and services.

The appropriations act in 2016 authorized an additional 100 MTW slots and additional slots may be added through future appropriations acts. Eligible applicants interested in obtaining MTW designation are required to submit applications to HUD, as explained in the applicable HUD Notice. The information collection covers the information needed from applicants to determine which applicants should be selected. The information provided demonstrates the applicants' plans to implement a local MTW program and includes related applicant history. The application includes such information as narrative exhibits, certifications, data forms, and supporting documentation. The information will be used by HUD staff to evaluate threshold requirements and review applications.

Respondents (i.e., affected public): The respondents to this PRA are the 39 Public Housing Authorities (PHAs) that had MTW designation as of December 15, 2015 and potential applicants that may be submitting applications to participate in the program.

Estimated Number of Respondents: The estimated number of respondents is 39.

Estimated Number of Responses: There are 78 submissions per year, reflecting the 39 PHAs. Each submission is comprised of 7 sections each requiring a response. All 7 sections are completed with the first annual submission (Plan), and 5 of the 7 sections are completed with the second annual submission (Report). This results in a total of 2 submissions per PHA, across all 39 affected PHAs or 78 total responses, that include 468 sections.

Frequency of Response: MTW PHAs complete requirements associated with this Form twice per year (Plan and Report). In the Plan, the PHA completes each of the 7 sections of the Form. In the Report, the PHA completes only 5 of the 7 sections of the Form.

Average Hours per Response: The estimated average burden is 33 hours per response (or 66 total hours per year).

Total Estimated Burdens: The total estimated burdens are 66, given each PHA completes the form twice per year (Plan and Report).

| Respondents | Annual responses/ respondent | Total responses per year | Burden per year per respondent | Total burden hours | Cost burden
Program Information:
Application | 0 | 0 | 0 | 0 | 0 | $0
50900 “Annual MTW Plan and Report Elements:”
Introduction | 39 | 2 | 78 | 3 | 234 | 13,090
General Housing Authority Information | 39 | 2 | 78 | 8 | 624 | 34,907
Proposed MTW Activities | 39 | 1 | 39 | 25 | 975 | 54,542
Ongoing MTW Activities | 39 | 2 | 78 | 10 | 780 | 43,633
Sources and Uses of Funding | 39 | 2 | 78 | 8 | 624 | 34,907
Administrative | 39 | 2 | 78 | 7 | 546 | 30,543
Certifications of Compliance | 39 | 1 | 39 | 5 | 195 | 10,908
Total Burden | 39 total | varies | 468 | 66 | 3,978 | 222,529

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including annual reporting based on the activities performance as related to the MTW program statutory objectives and through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2024-06591 Filed 3-27-24; 8:45 am]

BILLING CODE 4210-67-P